DEPARTMENT OF TRANSPORTATION

Federal Aviation Administration

Notice of Availability of the Federal Aviation Administration's Record of Decision for the Establishment and Modification of Oregon Military Training Special Use Airspace Identified as Warning Area 570, Eel Military Operation Area Complex, Redhawk Military Operation Area Complex, and Juniper/Hart Military Operation Area Complex and the Federal Aviation Administration's Adoption of the Final Environmental Impact Statement (EIS) Prepared by the Oregon Air National Guard/National Guard Bureau for the Proposed Establishment and Modification of Oregon Military Training Airspace (EIS No. 20170197)

AGENCY: Federal Aviation Administration (FAA), DOT.

ACTION: Notice of Availability of a September 29, 2017 Record of Decision.

SUMMARY: On September 29, 2017, the FAA signed its Adoption/Record of Decision (ROD) for its aeronautical action—the modification and establishment of Military Operation Areas (MOAs), Air Traffic Controlled Assigned Airspace (AATCAs) and Warning Areas for the Oregon Military Training Airspace. The Adoption/ROD identifies the aeronautical action and states the FAA decision to modify existing airspace and establish new airspace to support the Oregon Air National Guard's F-15 training operations. In accordance with FAA Order 1050.1F, paragraphs 9-2, Adoption of Other Agencies' National Environmental Policy Act Documents, and 7400.2L, paragraph 32-2-3, the FAA has conducted an independent review and evaluation of the Air National Guard, National Guard Bureau and U.S. Air Force's Final Environmental Impact Statement (FEIS) for the proposed Establishment and Modification of Military Operation Areas (MOAs) and Warning Area. Based on its independent review, the FAA has determined that the EIS and its supporting documentation, as incorporated by reference, adequately assess and disclose the environmental impacts of the FAA's proposed aeronautical action and that the adoption of the FEIS by the FAA is authorized.

Accordingly, the FAA adopts the FEIS, Appendices and all information identified therein, incorporated by reference and made publicly available. Further, the FAA's September 29, 2017 Adoption/Record of Decision (ROD) is based on its adoption of the FEIS and the FEIS' identification, analysis and conclusions regarding resources, and environmental effects of the ANG/NGB's Proposed Action.

DATES: Applicable date: December 6, 2017.

FOR FURTHER INFORMATION CONTACT: Paula Miller, Airspace Policy Group, Office of Airspace Services, Federal Aviation Administration, 800 Independence Avenue SW., Washington, DC 20591; telephone: (202) 267-7378.

SUPPLEMENTAL INFORMATION: The FAA adopts the Oregon Air National Guard/National Guard Bureau's Final EIS for the Proposed Establishment and Modification of Oregon Military Training Airspace. The FEIS analyzed the potential environmental impacts from the establishment of new military training airspace and modifications to existing military training airspace located over coastal, central, and eastern Oregon, the Pacific Ocean, a small area of northwestern Nevada, and the southwestern-most corner of Washington.

The proposed action would modify existing Air Traffic Control Assigned Airspaces (ATCAAs) and Military Operations Areas (MOAs), and establish new MOAs and ATCAAs to provide properly configured and located military airspace supporting efficient, realistic, mission-oriented training. Specifically, the proposed Action will achieve the purpose of providing properly configured and located military airspace to enable efficient, realistic mission-oriented training with adequate size and within reasonably close proximity to support the advanced 21st century air-to-air tactical fighter technologies. The Proposed Action will also enable, achieve and provide the military airspace necessary for the current and evolving training mission requirements of the Oregon ANG in an era of increased operational complexity. Recent improvements to the F-15's radar, along with other avionics upgrades and the growing reliance on stand-off tactics, techniques, and procedures (TTP) require a larger volume of training airspace than currently exists in the airspace managed by both the 142d Fighter Wing (142 FW) and 173d Fighter Wing (173 FW). Other factors contributing to the need for the airspace modifications are the travel distance and time required to access existing training airspace areas, and the frequency of weather conditions that limit the availability of coastal airspace areas for operational training. The adoption of the FEIS by the FAA is consistent with and authorized pursuant to NEPA implementing regulations at 40 CFR 1506.3.

On August 29, 2017, the USAF signed the Record of Decision (ROD) for the Establishment and Modification of Oregon Military Training Airspace. The Air National Guard Bureau, Department of the Air Force's Notice of Availability (NOA) of the USAF's ROD was published in the Federal Register on September 12, 2017. (82 FR 42803). The NOA states that the ROD is the USAF decision to modify existing airspace and establish new airspace to support the Oregon Air National Guard's F-15 training operations and to implement practicable mitigations. Further, the NOA states the USAF's decision was “based on matters addressed in the FEIS for the Proposed Modification of Oregon Military Training Airspace; contributions from the public, tribes, regulatory agencies; and other relevant factors”. The FEIS was made available to the public on May 19, 2017 through a NOA in the Federal Register (82 FR 22997) with a 30-day wait period that ended on June 19, 2017. (82 FR 42803).

An agency need not prepare a new or supplemental environmental document if there are no substantial changes in the proposed action that are relevant to environmental concerns, and that data and analyses contained in the EIS are still substantially valid that there are no significant new circumstances or information relevant to environmental concerns and bearing on the proposed action or its impacts.

The FAA conducted an independent evaluation and determined that the above referenced FEIS adequately addresses the relevant FAA actions and meets the applicable standards under NEPA and its implementing regulations at 40 CFR 1500-1508, and FAA Order 1050.1F. The FAA's September 29, 2017 Adoption/Record of Decision (ROD) for the Establishment and Modification of Oregon Military Training Special Use Airspace—as described in its ROD—is based on its independent review, evaluation and subsequent adoption of the FEIS prepared by the Oregon Air National Guard/National Guard Bureau.

Decision and Approval

After careful consideration of the FAA's statutory mandate under 49 U.S.C. 40103 to ensure the safe and efficient use of the national airspace system as well as the other aeronautical goals and objectives discussed in the FEIS, the FAA concurs with the military that the Proposed Action—as defined in the FAA's September 29, 2017 Adoption/Record of Decision (ROD)—provides the best airspace combination for meeting the needs stipulated in the FEIS, and that all practical means to avoid or minimize environmental harm from that alternative have been adopted.

Accordingly, under the authority delegated by the Administrator of the Federal Aviation Administration, the FAA's September 29, 2017 Adoption/Record of Decision (ROD) approves and authorizes all agency action to modify and to establish the new Special Use Airspace, as described.

The FAA's September 29, 2017 adoption/final decision signifies that applicable Federal environmental requirements relating to the Proposed Action have been met. The September 29, 2017 Adoption/Record of Decision (ROD) enabled the FAA to complete its non-rulemaking actions to establish and modify the Military Operation Areas and Warning Area. The September 29, 2017 Adoption/Record of Decision (ROD) is available at the FAA's Web site and can be viewed at: https://www.faa.gov/air_traffic/environmental_issues/.

Right of Appeal

The FAA's September 29, 2017 Adoption/Record of Decision (ROD) for the Establishment and Modification of Oregon Military Training Special Use Airspace constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the date of this notice in accordance with the provisions of 49 U.S.C. 46110. Any party seeking to stay implementation of the action as stated in the ROD must file an application with the FAA prior to seeking judicial relief as provided in Rule 18(a) of the Federal Rules of Appellate Procedure.

Issued in Washington, DC, on November 29, 2017.
Rodger A. Dean Jr.,
Manager, Airspace Policy Group.

[FR Doc. 2017-26201 Filed 12-5-17; 8:45 am]

BILLING CODE 4910-13-P